DEPARTMENT OF COMMERCE

Foreign-Trade Zones Board

(Docket 31-2005)

Foreign-Trade Zone 262 -- Southaven, Mississippi, Application for Expansion

An application has been submitted to the Foreign-Trade Zones (FTZ) Board (the Board), by the Northern Mississippi FTZ, Inc., grantee of Foreign-Trade Zone 262, requesting authority to expand its zone in Southaven, Mississippi, within the Memphis Customs port of entry (which covers areas in Tennessee and Mississippi). The application was submitted pursuant to the provisions of the Foreign-Trade Zones Act, as amended (19 U.S.C. 81a-81u), and the regulations of the Board (15 CFR part 400). It was formally filed on July 12, 2005.

FTZ 262 was approved on October 1, 2004 (Board Order 1353, 69 FR 60841, 10/13/04). The general-purpose zone consists of a 219-acre site at the DeSoto Trade Center located between Interstate 55 and U.S. Highway 51 south of Church Road in Southaven.

The applicant is now requesting authority to expand the zone to include two additional parcels (461 acres) immediately south and southwest of the existing site at the DeSoto Trade Center (new total acreage -- 680 acres). The additional parcels are located at U.S. Highway 51 between College Road and Star Landing Road. The parcels are owned by College Road Land Company LLC and DTC Eastgate 1 LLC and are suitable for warehousing, light assembly, manufacturing and distribution activities. No specific manufacturing authority is being requested at this time. Such requests would be made on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building--Suite 4100W, 1099 14th Street, NW., Washington, DC 20005; or,

2. Submissions via the U.S. Postal Service: Foreign-Trade Zones Board, U.S. Department of Commerce, FCB--Suite 4100W, 1401 Constitution Avenue, NW., Washington, DC 20230.

The closing period for their receipt is September 19, 2005. Rebuttal comments in response to material submitted during the foregoing period may be submitted during the subsequent 15-day period (to October 3, 2005.

A copy of the application and accompanying exhibits will be available during this time for public inspection at address Number 1 listed above, and at the Office of the City Clerk, 8700 Northwest Drive, Southaven, Mississippi 38671.

Dated: July 12, 2005.
Dennis Puccinelli,
Executive Secretary.

[FR Doc. 05-14286 Filed 7-19-05; 8:45 am]

BILLING CODE: 3510-DS-S